DEPARTMENT OF TRANSPORTATION

Federal Railroad Administration

[Docket No. FRA-2000-7257; Notice No. 69]

Railroad Safety Advisory Committee (RSAC); Working Group Activity Update

AGENCY: Federal Railroad Administration (FRA), Department of Transportation (DOT).

ACTION: Announcement of Railroad Safety Advisory Committee (RSAC) Working Group Activities.

SUMMARY: The FRA is updating its announcement of the RSAC Working Group activities to reflect its current status.

FOR FURTHER INFORMATION CONTACT: Larry Woolverton, RSAC Designated Federal Officer/Administrative Officer, FRA, 1200 New Jersey Avenue SE., Mailstop 25, Washington, DC 20590, (202) 493-6212; or Robert Lauby, Acting Associate Administrator for Railroad Safety/Chief Safety Officer, FRA, 1200 New Jersey Avenue SE., Mailstop 25, Washington, DC 20590, (202) 493-6474.

SUPPLEMENTARY INFORMATION: This notice serves to update FRA's last announcement of working group activities and status reports of November 28, 2011 (76 FR 72997). The 45th full RSAC meeting was held December 8, 2011, and the 46th meeting is scheduled for April 26, 2012, at the National Association of Home Builders, National Housing Center, located at 1201 15th Street NW., Washington, DC 20005.

Since its first meeting in April 1996, the RSAC has accepted 38 tasks. Status for each of the open tasks (neither completed nor terminated) is provided below:

Open Tasks

Task 96-4-Tourist and Historic Railroads. Reviewing the appropriateness of the agency's current policy regarding the applicability of existing and proposed regulations to tourist, excursion, scenic, and historic railroads. This task was accepted on April 2, 1996, and a working group was established. The working group monitored the steam locomotive regulation task. Planned future activities involve the review of other regulations for possible adaptation to the safety needs of tourist and historic railroads. Contact: Robert Lauby, (202) 493-6474.

Task 03-01-Passenger Safety. This task includes updating and enhancing the regulations pertaining to passenger safety, based on research and experience. This task was accepted on May 20, 2003, and a working group was established. Prior to embarking on substantive discussions of a specific task, the working group set forth in writing a specific description of the task. The working group reports planned activity to the full RSAC at each scheduled full RSAC meeting, including milestones for completion of projects and progress toward completion. At the first meeting, held on September 9-10, 2003, a consolidated list of issues was completed. At the second meeting, held on November 6-7, 2003, four task groups were established: Emergency Preparedness, Mechanical, Crashworthiness, and Track/Vehicle Interaction. The task forces met and reported on activities for working group consideration at the third meeting, held on May 11-12, 2004, and a fourth meeting was held October 26-27, 2004. The working group met on March 21-22, 2006, and again on September 12-13, 2006, at which time the group agreed to establish a task force on General Passenger Safety. The full Passenger Safety Working Group met on April 17-18, 2007; December 11-12, 2007; November 13, 2008; and June 8, 2009. On August 5, 2009, the working group was requested to establish an Engineering Task Force (ETF) to consider technical criteria and procedures for qualifying alternative passenger equipment designs as equivalent in safety to equipment meeting the design standards in the Passenger Equipment Safety Standards. Consensus Tier III recommendations of the ETF were developed and were approved at a meeting on October 6-7, 2011, by the Passenger Safety Working Group, and these recommendations were approved by the full RSAC Committee by electronic vote on March 2, 2012. These recommendations address safety issues related to high-speed rail trainsets used in the United States. No additional meetings are currently scheduled. Contact: Charles Bielitz, (202) 493-6314.

Engineering Task Force. The Passenger Safety Working Group approved a request from FRA to establish an ETF under the Passenger Safety Working Group in August 2009. The mission of the task force is to produce a set of technical evaluation criteria and procedures for passenger rail equipment built to alternative designs. The technical evaluation criteria and procedures would provide a means of establishing whether an alternative design would result in performance at least equal to the structural design standards set forth in the Passenger Equipment Safety Standards (Title 49 Code of Federal Regulations (CFR) Part 238). The initial focus of this effort will be on Tier I standards. When completed, the criteria and procedures would form a technical basis for making determinations concerning equivalent safety pursuant to 49 CFR 238.201, and provide a technical framework for presenting evidence to FRA in support of any request for waiver of the compressive (buff) strength requirement, as set forth in 49 CFR 238.203. See 49 CFR Part 211, Rules of Practice. The criteria and procedures could be incorporated into Part 238 at a later date after notice and opportunity for public comment. The ETF was formed and a kickoff meeting was held on September 23-24, 2009. The group held follow-on meetings November 3-4, 2009; January 7-8, 2010; and March 9-10, 2010. A followup GoTo/Webinar meeting was held on July 12, 2010. The ETF developed a draft “Criteria and Procedures Report,” that was approved by the Passenger Safety Working Group during the September 16, 2010, meeting and by the RSAC Committee during the September 23, 2010, meeting. The document has been placed on the FRA Web site at the following address: http://www.fra.dot.gov/downloads/safety/RSAC_REPORT-%209-16-10.pdf.

Engineering Task Force II. To build on the success of the ETF in developing a set of alternative technical criteria and procedures for evaluating the crashworthiness and occupant protection performance of passenger rail equipment in service at conventional operating speeds, FRA requested that the Passenger Safety Working Group re-task the group to concentrate on developing crashworthiness and occupant protection safety recommendations for high-speed passenger trains. The Passenger Safety Working Group accepted the task on July 28, 2010, by electronic vote. Under the new task, the task force may address any safety features of the equipment, including but not limited to crashworthiness, interior occupant protection, glazing, emergency egress, and fire safety features. Any type of equipment may be addressed, including conventional locomotives, high-speed power cars, cab cars, multiple-unit (MU) locomotives, and coach cars. The equipment addressed may be used in any type of passenger service, from conventional-speed to high-speed. Recommendations may take the form of criteria and procedures, revisions to existing regulations, or adoption of new regulations, including rules of particular applicability. The work of the re-tasked ETF is intended to assist FRA in developing appropriate safety standards for the high-speed rail projects planned in California and Nevada. The ETF II held a kickoff meeting on October 21-22, 2010, to begin work on the new high-speed task, and had follow-on meetings on January 11-12, 2011, February 14-15, March 30-31, June 16-17, and October 6-7, 2011. Consensus Tier III recommendations of the ETF were developed and were accepted by vote during the meeting on October 6-7, 2011. The ETF II has formed two additional Task Groups to work in the areas of track worthiness and brakes. The Track Worthiness Task Group is tasked to identify potential safety issues related to operation of high-speed trainsets on conventional track and to make recommendations on how best to mitigate any consequences. The Task Group includes experts and key stakeholders such as international operators of high-speed equipment, car builders, wheel/rail interaction dynamics specialists, and other RSAC working group members involved in vehicle/track interaction. The Brakes Task Group is tasked to review braking system requirements and international braking system requirements versus existing U.S. requirements including inspection and maintenance and identify common features, determine basic parameters, and consider use of service proven braking systems. The Task Group will also consider performance-based provisions/requirements with consideration for operators to develop maintenance, inspection, and service plans, and make recommendations regarding brakes to the ETF II as related to Tier III. The next ETF meeting will be scheduled for June 2012. Contact: Robert Lauby, (202) 493-6474.

Emergency Preparedness Task Force. At the working group meeting on March 9-10, 2005, the working group received and approved the consensus report of the Emergency Preparedness Task Force related to emergency communication, emergency egress, and rescue access. These recommendations were presented to and approved by the full RSAC on May 18, 2005. The working group met on September 7-8, 2005, and additional, supplementary recommendations were presented to and accepted by the full RSAC on October 11, 2005. The Notice of Proposed Rulemaking (NPRM) was published on August 24, 2006 (71 FR 50275), and was open for comment until October 23, 2006. The working group agreed upon recommendations for the final rule, including resolution of final comments received, during the April 17-18, 2007, meeting. The recommendations were presented to and approved by the full RSAC on June 26, 2007. The Passenger Train Emergency Systems final rule, focusing on emergency communication, emergency egress, and rescue access, was published on February 1, 2008 (73 FR 6370). The task force met on October 17-18, 2007, and reached consensus on the draft rule text for a followup NPRM on Passenger Train Emergency Systems, focusing on low location emergency exit path marking, emergency lighting, and emergency signage. The task force presented the draft rule text to the Passenger Safety Working Group on December 11-12, 2007, and the consensus draft rule text was presented to, and approved by full RSAC vote during the February 20, 2008, meeting. During the May 13-14, 2008, meeting, the task force recommended clarifying the applicability of back-up emergency communication system requirements in the February 1, 2008, final rule, and FRA announced its intention to exercise limited enforcement discretion for a new provision amending instruction requirements for emergency window exit removal. The working group ratified these recommendations on June 19, 2008. The task force met again on March 31, 2009, to clarify issues related to the followup NPRM raised by members. The modified rule text was presented to and approved by the Passenger Safety Working Group on June 8, 2009. The working group requested that FRA draft the rule text requiring daily inspection of removable panels or windows in vestibule doors and entrust the Emergency Preparedness Task Force with reviewing the text. FRA sent the draft text to the task force for review and comment on August 4, 2009. The draft rule text was approved by the Passenger Safety Working Group by mail ballot on December 23, 2009, and the resultant NPRM was published January 3, 2012 (77 FR 154). No additional task force meetings are currently scheduled. Contact: Brenda Moscoso, (202) 493-6282.

Mechanical Task Force—Completed. Initial recommendations on mechanical issues (revisions to 49 CFR Part 238) were approved by the full RSAC on January 26, 2005. At the working group meeting on September 7-8, 2005, the task force presented additional perfecting amendments and the full RSAC approved them on October 11, 2005. An NPRM was published in the Federal Register on December 8, 2005 (70 FR 73070). Public comments were due by February 17, 2006. The final rule was published in the Federal Register on October 19, 2006 (71 FR 61835), effective December 18, 2006.

Crashworthiness Task Force—Completed. Among its efforts, the Crashworthiness Task Force provided consensus recommendations on static-end strength that were adopted by the working group on September 7-8, 2005. The full RSAC accepted the recommendations on October 11, 2005. The front-end strength of cab cars and MU locomotives' NPRM was published in the Federal Register on August 1, 2007 (72 FR 42016), with comments due by October 1, 2007. A number of comments were entered into the docket, and a Crashworthiness Task Force meeting was held September 9, 2008, to resolve comments on the NPRM. Based on the consensus language agreed to at the meeting, FRA has prepared the text of the final rule incorporating the resolutions made at the task force meeting and the final rule language was adopted at the Passenger Safety Working Group meeting held on November 13, 2008. The language was presented and approved at the December 10, 2008, full RSAC meeting. The final rule was issued on December 31, 2009, and published on January 8, 2010 (75 FR 1180). Contact: Gary Fairbanks, (202) 493-6322.

Vehicle/Track Interaction Task Force. The task force is developing proposed revisions to 49 CFR Parts 213 and 238, principally regarding high-speed passenger service. The task force met on October 9-11, 2007, and again on November 19-20, 2007, in Washington, DC, and presented the final task force report and final recommendations and proposed rule text for approval by the Passenger Safety Working Group at the December 11-12, 2007, meeting. The final report and the proposed rule text were approved by the working group and were presented to and approved by full RSAC vote during the February 20, 2008, meeting. The group met on February 27-28, 2008, and by teleconference on March 18, 2010, to address unresolved issues, and the NPRM was published on May 10, 2010 (75 FR 25928). The task force was called back into session on August 5-6, 2010, to review and consider NPRM comments. The final rule will amend the Track Safety Standards and Passenger Equipment Safety Standards for high-speed train operations and train operations at high cant deficiencies to promote the safe interaction of rail vehicles with the track over which they operate. It will revise both the safety limits for these operations and the process to qualify them. It accounts for a range of vehicle types that are currently used and may likely be used on future high-speed or high cant deficiency rail operations, and would provide safety assurance for train operations in all classes of track. It is based on the results of simulation studies designed to identify track geometry irregularities associated with unsafe wheel forces and acceleration, thorough reviews of vehicle qualification and revenue service test data, and consideration of international practices. The draft final rule was sent to the task force for final consensus on November 11, 2011, and was approved by electronic vote on November 21, 2011. The draft final rule was then approved by electronic vote by the Passenger Safety Working Group on December 12, 2011, and by the full RSAC Committee by electronic vote on January 6, 2012. Target publication date of the final rule is June 2012. Contact: John Mardente, (202) 493-1335.

General Passenger Safety Task Force. At the Passenger Safety Working Group meeting on April 17-18, 2007, the task force presented a progress report to the working group. The task force met on July 18-19, 2007, and afterwards it reported proposed reporting cause codes for injuries involving the platform gap, which were approved by the working group by mail ballot in September 2007. The full RSAC approved the recommendations for changes to 49 CFR Part 225 accident/incident cause codes on October 25, 2007. The General Passenger Safety Task Force presented draft guidance material for management of the gap that was considered and approved by the working group during the December 11-12, 2007, meeting and was presented to and approved by full RSAC vote during the February 20, 2008, meeting. The group met April 23-24, 2008, December 3-4, 2008, April 21-23, 2009, October 7-8, 2009, and July 30, 2010, by GoTo/Webinar teleconference. The task force continues work on passenger train door securement, “second train in station”, trespasser incidents, and system safety-based solutions by developing a regulatory approach to system safety. The task force has created two task groups to focus on these issues.

The Door Safety Task Group has reached consensus on 47 out of 48 safety issues and had five items that have been remanded to the task force for vote. The issues are addressed in the area of passenger train door mechanical and operational requirements and presented draft regulatory language to the Passenger Safety Working Group at the September 16, 2010, meeting. More work remains to ensure the 49 CFR Part 238 door rule consensus document and the proposed American Public Transit Association (APTA) door standard (APTA SS-M-18-10) uses uniform language. The document was approved by the Passenger Safety Working Group by electronic vote on March 31, 2011, and approved by the RSAC on May 20, 2011. This rulemaking would amend the passenger equipment safety standards to enhance safety standards as they relate to passenger door securement while a passenger train is in service based on research and experiences of FRA safety inspectors. Specifically, FRA would incorporate by reference APTA standard: “APTA SS-M-18-10 Standard for Powered Exterior Side Door System Design for New Passenger Cars.” A draft NPRM is currently under development with a target publication date of May 2012. No additional Door Task Group meetings are currently scheduled. Contact: Brian Hontz, (610) 521-8220.

The System Safety Task Group has produced draft regulatory language for a System Safety Rule, but work on this rulemaking was delayed until a study of legal protections for Risk Reduction Program (RRP) and System Safety Program (SSP) risk analysis data that is required by the Rail Safety Improvement Act of 2008 (RSIA) was completed. The System Safety rulemaking would improve passenger railroad safety through structured, proactive processes and procedures developed by passenger railroad operators. It would require passenger railroads to establish an SSP that would systematically evaluate and manage risks in order to reduce the number and rates of railroad accidents, incidents, injuries, and fatalities. FRA continued to work on a draft NPRM while waiting for the legal review of protection of hazard analysis information, required by Section 109 of the RSIA. RCC completed a legal study and posted it on the FRA Web site and in the docket. The General Passenger Safety Task Force including the members of the System Safety Task Group met on February 1-2, 2012, and continued work on finalizing the draft NPRM language. A draft NPRM is being prepared with a target date of August 2012 for publication. No additional System Safety Task Group meetings are currently scheduled. Contact: Dan Knote, (631) 567-1596.

Task 05-01—Review of Roadway Worker Protection Issues. This task was accepted on January 26, 2005, to review 49 CFR Part 214, Subpart C, Roadway Worker Protection (RWP), and related sections of Subpart A; to recommend consideration of specific actions to advance the on-track safety of railroad employees and contractors engaged in maintenance-of-way activities throughout the general system of railroad transportation, including clarification of existing requirements. A working group was established and reported to the RSAC any specific actions identified as appropriate. The first meeting of the working group was held on April 12-14, 2005. Over the course of 2 years, the group drafted and reached consensus on regulatory language for various revisions, clarifications, and additions to 32 separate items in 19 sections of the rule. However, two parties raised technical concerns regarding one of those items, namely, the draft language concerning electronic display of track authorities. The working group presented and received approval on all of its consensus recommendations for draft rule text to the full RSAC at the June 26, 2007, meeting. FRA will address the electronic display of track authorities issue, along with eight additional items that the working group was unable to reach consensus, through the traditional NPRM process. In early 2008, the external working group members were solicited to review the consensus rule text for errata review. In order to address the heightened concerns raised with the current regulations for adjacent-track, on-track safety, FRA decided to issue, on an accelerated basis, a separate NPRM that would focus on this element of the RWP rule alone. An NPRM with an abbreviated comment period regarding adjacent-track, on-track safety was published on July 17, 2008, but was later withdrawn on August 13, 2008, to permit further consideration of the RSAC consensus language. A second NPRM concerning adjacent-controlled-track, on-track safety was published on November 25, 2009, and comments were due to the docket by January 25, 2010. Comments were reviewed and considered by FRA, and the final rule was published on November 30, 2011 (76 FR 74586). In response to the final rule, FRA received two petitions for reconsideration that raise a number of substantive issues requiring a detailed response. A delay of the effective date of the final rule and a request for comments was published on March 8, 2012 (77 FR 13978). This document delays the effective date of the final rule until July 1, 201,3 and establishes a 60-day comment period in order to permit interested parties an opportunity to respond to the submitted petitions for reconsideration.

The remaining larger NPRM relating to the various revisions, clarifications, and additions to 31 separate items in 19 sections of the rule, and FRA's recommendations for 9 nonconsensus items is now planned for early 2012. Contact: Joe Riley, (202) 493-6357.

Task 05-02—Reduce Human Factor-Caused Train Accident/Incidents. This task was accepted on May 18, 2005, to reduce the number of human factor-caused train accidents/incidents and related employee injuries. The Railroad Operating Rules Working Group was formed, and the working group extensively reviewed the issues presented. The final working group meeting devoted to developing a proposed rule was held February 8-9, 2006. The working group was not able to deliver a consensus regulatory proposal, but it did recommend that it be used to review comments on FRA's NPRM, which was published in the Federal Register on October 12, 2006 (FR 71 60372), with public comments due by December 11, 2006. Two reviews were held, one on February 8-9, 2007, and one on April 4-5, 2007. Consensus was reached on four items and those items were presented and accepted by the full RSAC at the June 26, 2007, meeting. A final rule was published in the Federal Register on February 13, 2008 (73 FR 8442), with an effective date of April 14, 2008. FRA received four petitions for reconsideration of that final rule. The final rule that responded to the petitions for consideration was published in the Federal Register on June 16, 2008, and concluded the rulemaking. Working group meetings were held September 27-28, 2007; January 17-18, 2008; May 21-22, 2008; and September 25-26, 2008. The working group has considered issues related to issuance of Emergency Order No. 26 (prohibition on use of certain electronic devices while on duty), and “after arrival mandatory directives,” among other issues. The working group continues to work on after arrival orders, and at the September 25-26, 2008, meeting voted to create a Highway-Rail Grade Crossing Task Force to review highway-rail grade crossing accident reports regarding incidents of grade crossing warning systems providing “short or no warning” resulting from or contributed to “by train operational issues” with the intent to recommend new accident/incident reporting codes that would better explain such events, and which may provide information for remedial action going forward. A followup task is to review and provide recommendations regarding supplementary reporting of train operations-related, no-warning or short-warning incidents that are not technically warning system activation failures, but that result in an accident/incident or a near miss. The task force has been formed and will begin work after other RSIA priorities are met. Contact: Douglas Taylor, (202) 493-6255.

Task 06-01—Locomotive Safety Standards. This task was accepted on February 22, 2006, to review 49 CFR Part 229, Railroad Locomotive Safety Standards, and revise as appropriate. A working group was established with the mandate to report any planned activity to the full Committee at each scheduled full RSAC meeting, to include milestones for completion of projects and progress toward completion. The first working group meeting was held May 8-10, 2006. Working group meetings were held on August 8-9, 2006; September 25-26, 2006; October 30-31, 2006; and the working group presented recommendations regarding revisions to requirements for locomotive sanders to the full RSAC on September 21, 2006. The NPRM regarding sanders was published in the Federal Register on March 6, 2007 (72 FR 9904). Comments received were discussed by the working group for clarification, and FRA published a final rule on October 19, 2007 (72 FR 59216). The working group met on January 9-10, 2007; November 27-28, 2007; February 5-6, 2008; May 20-21, 2008; August 5-6, 2008; October 22-23, 2008; January 6-7, 2009; and April 15-16, 2009. The working group has now completed the review of 49 CFR Part 229 and was unable to reach consensus regarding locomotive cab temperatures standards, locomotive alerters, and remote control locomotives. The group reached consensus regarding critical locomotive electronic standards, updated annual/biennial air brake standards, clarification of the “air brakes operate as intended” requirement, locomotive pilot clearance within hump classification yards, clarification of the “high voltage” warning requirement, an update of “headlight lamp” requirements, and language to allow locomotive records to be stored electronically. The working group presented a draft 49 CFR Part 229 rule text revision covering these items to the RSAC for consideration at the September 10, 2009, meeting and received approval. The NPRM was delayed due to competing RSIA priorities and the need for additional language. The NPRM was published on January 12, 2011 (76 FR 2200), and the final rule is scheduled to be published in early 2012. This rulemaking would amend the rules pertaining to the Locomotive Safety Standards. The proposed amendments would update, consolidate, and clarify existing rules, and adopt existing industry and engineering best practices. The proposed amendments include: updating locomotive inspection recordkeeping requirements by permitting electronic records; consolidating locomotive air brake maintenance into a single provision; clarifying locomotive headlight requirements to address new technology; and, establishing locomotive electronics standards based on existing industry and engineering best practices, as well as other existing Federal electronics standards. This action is taken by FRA in an effort to improve its safety regulator program. The working group may be called back to address comments received on the final rule after publication. Contact: Steve Clay, (202) 493-6259.

Task 06-03—Medical Standards for Safety-Critical Personnel. This task was accepted on September 21, 2006, to enhance the safety of persons in the railroad operating environment and the public by establishing standards and procedures for determining the medical fitness for duty of personnel engaged in safety-critical functions. A working group was established by the full RSAC and reports its activities and progress toward completion of this task to the full RSAC during each meeting of the full RSAC. The first working group meeting was held December 12-13, 2006, and the working group has held follow-on meetings on February 20-21, 2007; July 24-25, 2007; August 29-30, 2007; October 31-November 1, 2007; December 4-5, 2007; February 13-14, 2008; March 26-27, 2008; April 22-23, 2008; December 8-9, 2009; February 16-17, 2010; March 11-12, 2010; May 24-26, 2010; August 31-September 1, 2010; November 18-19, 2010; and September 27-28, 2011. During the working group's September 2011 meeting, the working group discussed stakeholder positions on the draft rule text and draft medical qualification criteria and protocols, and a preliminary cost-benefit analysis was presented to the working group by the FRA economist. The working group tentatively agreed to proceed to revise its draft recommendations to include a proposed option that the medical qualification criteria be issued as medical qualification guidelines rather than standards. The working group established a task force to draft proposed revisions to working draft documents to be presented to the working group for review and comment. The next working group meeting has not currently been scheduled due to other priority RSIA projects. Contact: Dr. Bernard Arseneau, (202) 493-6002.

Physicians Task Force. A Physicians Task Force was established by the working group in May 2007, and tasked to draft recommended medical qualification criteria and protocols for locomotive engineers and conductors. The Physicians Task Force has had meetings or conference calls on July 24, 2007; August 20, 2007; October 15, 2007; October 31, 2007; June 23-24, 2008; September 8-10, 2008; October 8, 2008; November 12-13, 2008; December 8-10, 2008; January 27-28, 2009; February 24-25, 2009; March 11-12, 2009; March 31-April 1, 2009; April 15, 2009; April 22, 2009; May 13, 2009; May 20, 2009; June 17, 2009; January 21-22, 2010; March 3, 2010; August 16-17, 2010; and October 25-26, 2010; December 17, 2010; January 11, 2011; March 3-4, 2011; May 16-17, 2011; August 18, 2011; August 25, 2011; August 31, 2011. On September 1, 2011, the task force notified working group members that it had made significant progress in completing its task and requested that the working group participate in clarifying a limited number of remaining operational issues relevant to the task that merited review by industry management, labor, and other stakeholders. No further meetings of the Physicians Task Force are currently scheduled. Contact: Dr. Bernard Arseneau, (202) 493-6002.

Critical Incident Task Force. The Medical Standards Working Group accepted RSAC Task 2009-02, Critical Incident Response, during the December 8-9, 2010, meeting. The working group has been tasked to provide advice regarding development of implementing regulations for critical incident stress plans as required by the RSIA. A Critical Incident Task Force was established by the working group during the May 24-26, 2010, Medical Standards Working Group meeting. The scheduled kickoff meeting for the Critical Incident Task Force scheduled for September 2, 2010, was postponed at the request of industry participants. In late March 2011, FRA leadership decided to request that the RSAC be asked to amend the Critical Incident task statement to remove reference to the Medical Standards Working Group and to allow the group to assume full working group status to expedite the work. The Committee approved the revised task statement with a target date for recommendations to the Committee of December 2011, and the task force transitioned to the Critical Incident Working Group. (See Critical Incident Working Group entry.) Contact: Dr. Bernard Arseneau, (202) 493-6002.

Task 08-03—Track Safety Standards Rail Integrity. This task was accepted on September 10, 2008, to consider specific improvements to the Track Safety Standards or other responsive actions designed to enhance rail integrity. The Rail Integrity Task Force was created in October 2007 under Task 07-01 and first met on November 28-29, 2007. The task force met on February 12-13, 2008; April 15-16, 2008; July 8-9, 2008; September 16-17, 2008; February 3-4, 2009; June 16-17, 2009; October 29-30, 2009; January 20-21, 2010; March 9-11, 2010; and April 20, 2010. Consensus has been achieved on bond wires and a common understanding on internal rail flaw inspections has been reached. The task force has reached consensus to recommend to the working group that the item regarding “the effect of rail head wear, surface conditions and other relevant factors on the acquisition and interpretation of internal rail flaw test results” be closed. The task force does not recommend regulatory action concerning head wear. Surface conditions and their affect on test integrity has been discussed and understood during dialogue concerning common understanding on internal rail flaw inspections. The task force believes that new technology has been developed that improves test performance and will impact the affect of head wear and surface conditions on interpretation of internal rail flaw test results. Consensus text was developed on recommended changes that would approach a performance-based approach to flaw detection scheduling. However, the group did not reach consensus on what length of segment of track is practical to use on determining test cycles. Consensus text has been finalized for recommended changes to 49 CFR 213.113, Defective rails; 213.237, Rail inspection; and 213.241, Inspection records. The task force has developed a new 49 CFR 213.238, Qualified operator language, that defines the minimum requirements for the training of a rail flaw detector car operator. The task force presented the consensus language to the Track Standards Working Group during the July 28-30, 2010, meeting and the Track Standards Working Group presented its consensus recommendations to the RSAC for approval during the September 23, 2010, Committee meeting. By majority vote, the RSAC accepted the recommendations of the Track Standards Working Group and forwarded those recommendations to the Administrator completing RSAC Task 08-03. The associated NPRM is currently in the final stages of development with an anticipated spring issue date, and RSAC Task 08-03 will be complete once the final rule is issued. Contact: Carlo Patrick, (202) 493-6399.

Task No. 08-07—Conductor Certification. This task was accepted on December 10, 2008, to develop regulations for certification of railroad conductors, as required by the RSIA, and to consider any appropriate related amendments to existing regulations and report recommendations for proposed or interim final rule (as determined by FRA in consultation with the Office of the Secretary of Transportation (OST) and the Office of Management and Budget (OMB)) by October 16, 2009. The Conductor Certification Working Group was officially formed by nominations from member organizations in April 2009, and the first meeting was held on July 21-23, 2009. Additional meetings were held on August 25-27, 2009; September 15-17, 2009; October 20-22, 2009; November 17-19, 2009; and December 16-18, 2009. Tentative consensus was reached on the vast majority of the regulatory text. The working group approved the draft rule text by electronic ballot and the consensus draft language was approved by the RSAC on March 18, 2010, by unanimous vote as the recommendation from the Committee to the FRA Administrator. The resulting NPRM was published in the Federal Register on November 10, 2010 (75 FR 69166), the working group was called back to meet and review comments received on May 12, 2011, and the final rule is currently under development with a target publication date of November 2012. This rulemaking would provide rules and guidance for requisite train conductor certification to ensure that individuals have the knowledge and skills necessary to perform the duties of a train conductor. This rulemaking may propose that each railroad adopt and comply with a written program for certifying and recertifying the qualifications of conductors. After the final rule is published, the working group will reconvene to make conforming amendments to the locomotive engineer certification regulation as appropriate. Contact: Mark McKeon, (202) 493-6350.

Task No. 09-02—Critical Incident Programs. This task was accepted on September 10, 2009, to provide advice regarding development of implementing regulations for Critical Incident Stress Plans as required by the RSIA. The group has been tasked to define what a “critical incident” is that requires a response; review available data, literature, and standards of practice concerning critical incident programs to determine appropriate action when a railroad employee is involved in or directly witnesses a critical incident; review any evaluation studies available for existing railroad critical incident programs; describe program elements appropriate for the rail environment, including those requirements set forth in the RSIA; provide an example of a suitable plan (template); and assist in the preparation of an NPRM no later than December 2010. In late March 2011, FRA leadership requested that the RSAC amend the Critical Incident task statement to remove reference to the Medical Standards Working Group and to allow the group to assume full working group status to expedite the work. The Committee approved the revised task statement with a target date for recommendations to the Committee of December 2011. The Critical Incident Working Group kickoff meeting was held on June 24, 2011. The draft report assessing current knowledge of post-traumatic interventions and to advance evidence-based recommendations for controlling the risks associated with traumatic exposure in the railroad setting was completed and distributed to the working group prior to the September 8-9, 2011, working group meeting. Due to the aggressive timeline, the working group held its second meeting on October 11-12, 2011, and held a follow-on meeting December 13, 2011. The grantee provided a report entitled “Proposed Key Elements of Critical Incident Intervention Program for Reducing the Effects of Potentially Traumatic Exposure on Train Crews to Grade Crossing and Trespasser Incidents” to the Critical Incident Working Group on December 13, 2011. A proposed rule based on the study recommendations is currently under development with the assistance of the Critical Incident Working Group. Contact: Ron Hynes, (202) 493-6404.

Task No. 10-01—Minimum Training Standards and Plans. This task was accepted on March 18, 2010, to establish minimum training standards for each class and craft of safety-related railroad employee and their railroad contractor and subcontractor equivalents, as required by the RSIA. The group has been tasked to assist FRA in developing regulations responsive to the legislative mandate, while ensuring that generally accepted principles of adult learning are employed in training and development and delivery; determine a reasonable method for submission and FRA review of training plans, which takes human resource limitations into account; establish reasonable oversight criteria to ensure training plans are effective, using the operational tests and inspections requirements of 49 CFR Part 217 as a model. The Training Standards Working Group was officially formed through the formal Committee member nomination process in March 2010, and the first meeting was held on April 13-14, 2010. A followup working group meeting was held on June 2-3, 2010, and additional followup meetings were held August 17-18 and September 21-22, 2010. A Task Analysis Task Force was formed under the working group to develop a task analysis template and met in Florence, KY, on June 22-23, 2010, with CSX Transportation hosting the event. The group developed a 21-page task analysis document for an outbound train yard carman position, which is complete regarding FRA railroad safety laws, regulations, and orders. The working group met August 17-18, and October 19-20, 2010, and by GoTo/Webinar on November 15-16, 2010. The working group reached consensus and the resulting training standards draft regulatory language was presented to and approved by the RSAC Committee on December 14, 2010. This rulemaking will (1) establish minimum training standards for each class or craft of safety-related employee and equivalent railroad contractor and subcontractor employee that require railroads, contractors, and subcontractors to qualify or otherwise document the proficiency of such employees in each such class and craft regarding their knowledge and ability to comply with Federal railroad safety laws and regulations and railroad rules and procedures intended to implement those laws and regulations, etc.; (2) require submission of railroads', contractors', and subcontractors' training and qualification programs for FRA approval; and (3) establish a minimum training curriculum and ongoing training criteria, testing, and skills evaluation measures for track and equipment inspectors employed by railroads and railroad contractor and subcontractors. The resulting NPRM was published February 7, 2012 (77 FR 6411), with comments on the proposed rule due by April 9, 2012. No additional working group meetings are scheduled at this time. Contact: Rob Castiglione, (817) 447-2715.

Task No. 10-02—Safety Technology in Dark Territory. This task was accepted on September 23, 2010, to provide advice regarding development of standards, guidance, regulations, or orders governing the development, use, and implementation of rail safety technology in dark territory, as required by Section 406 of the RSIA. Specifically, to assist FRA in developing regulations responsive to the legislative mandate and to report recommendations to the FRA Administrator for proposed or interim final rule (as determined by FRA in consultation with the Office of the Secretary of Transportation and the Office of Management and Budget) by September 30, 2011. This rulemaking would issue standards or guidance governing development and deployment of technology to promote safe operation in non-signaled territory in arrangements not defined in signal inspection law. The delay in starting this effort was caused by the PTC rulemaking, which required the same key personnel both in government and industry. With the PTC effort maturing, resources became available and the Dark Territory Working Group was formed to assist FRA in developing regulations responsive to the legislative mandate and to report recommendations to the FRA Administrator for proposed or interim final rule (as determined by FRA in consultation with OST and OMB). The working group met on March 3-4, 2011, May 9-10, 2011, and September 6-7, 2011, and created four task forces to investigate specific subject areas. A follow-on meeting was held November 17-18, 2011, and a proposed rule is currently under development with the assistance of the Dark Territory Working Group. Contact: Olga Cataldi, (202) 493-6321.

Task No. 11-01—Preventing Railroad Employee Distractions Caused by Personal Electronic Devices. This task was accepted on May 20, 2011, to prescribe mitigation strategies, programs, and processes for governing the use of personal electronic devices that could cause distractions to railroad employees engaged in safety-critical activities. This working group will explore additional methods to achieve compliance through education, peer-to-peer coaching, counseling, and other cooperative, non-regulatory/punitive methods. The Electronic Device Distraction Working Group was formed and held its kickoff meeting on October 25-26, 2011, and held follow-on meetings on January 11-12, and March 27, 2012. Work on this task has progressed well and the working group is on target to present its recommendations to the Committee during the April 2012 RSAC meeting. Contact: Miriam Kloeppel, (202) 493-6224.

Task No. 11-02—Track Inspection Time Study. This task was accepted by the Committee electronically on August 16, 2011, to consider specific improvements to the Track Safety Standards or other responsive actions related to the Track Inspection Time Study required by Sections 403(a)-(c) of the RSIA and other relevant studies and resources. Sections 403(a) and (b) of the RSIA required a study of inspection practices and the amount of time required for inspections under the Track Safety Standards, and another set of revisions to those regulations. The report was due by October 16, 2010, on the results of a specified track inspection time and track safety study. FRA is expected to make recommendations for rule changes and, under Section 403(c), not later than 2 years after completion of the study, prescribe regulations based on its results. FRA organized an independent study by an outside contractor and developed a questionnaire used to get information from railroad track inspectors throughout the country; interviews with railroad and union officials were also conducted for additional perspectives. The Track Inspection Time Study was completed and signed by the Secretary on May 2, 2011, starting the 2-year timeline for rulemaking. The task was given to the Track Standards Working Group and it held a kickoff meeting on October 20, 2011, and follow-on meetings were held on December 20-21, 2011; and February 7-8, 2012. No further meetings are currently scheduled and the working group is on schedule to provide recommendations to the Committee no later than May 2, 2012. Contact: Michael Lestingi, (202) 493-6236.

Task No. 11-03—Fatigue Management Plans. This task was accepted by the Committee on December 8, 2011, to provide advice regarding development of implementing regulations for Fatigue Management Plans and their deployment under the RSIA. The working group was formed and held its kick-off meeting on March 27, 2012. The working group is tasked to report recommendations to the Committee no later than February 2013. Contact: Miriam Kloeppel, (202) 493-6224.

Task No. 11-04—Risk Reduction Program. This task was accepted by the Committee on December 8, 2011, to develop requirements for certain railroads to develop a Risk Reduction Program as mandated by the RSIA. The working group was formed and held its kick-off meeting on January 31-February 1, 2012, and a follow-on meeting is scheduled for April 10-11, 2012. Contact: Miriam Kloeppel, (202) 493-6224.

Completed Tasks

Task 96-1—(Completed) Revising the freight power brake regulations.

Task 96-2—(Completed) Reviewing and recommending revisions to the Track Safety Standards (49 CFR Part 213).

Task 96-3—(Completed) Reviewing and recommending revisions to the Radio Standards and Procedures (49 CFR Part 220).

Task 96-5—(Completed) Reviewing and recommending revisions to Steam Locomotive Inspection Standards (49 CFR Part 230).

Task 96-6—(Completed) Reviewing and recommending revisions to miscellaneous aspects of the regulations addressing locomotive engineer certification (49 CFR Part 240).

Task 96-7—(Completed) Developing roadway maintenance machines (on-track equipment) safety standards.

Task 96-8—(Completed) This planning task evaluated the need for action responsive to recommendations contained in a report to Congress titled, Locomotive Crashworthiness & Working Conditions.

Task 97-1—(Completed) Developing crashworthiness specifications (49 CFR Part 229) to promote the integrity of the locomotive cab in accidents resulting from collisions.

Task 97-2—(Completed) Evaluating the extent to which environmental, sanitary, and other working conditions in locomotive cabs affect the crew's health and the safe operation of locomotives, proposing standards where appropriate.

Task 97-3—(Completed) Developing event recorder data survivability standards.

Task 97-4 and Task 97-5—(Completed) Defining PTC functionalities, describing available technologies, evaluating costs and benefits of potential systems, and considering implementation opportunities and challenges, including demonstration and deployment.

Task 97-6—(Completed) Revising various regulations to address the safety implications of processor-based signal and train control technologies, including communications-based operating systems.

Task 97-7—(Completed) Determining damages qualifying an event as a reportable train accident.

Task 00-1—(Completed-task withdrawn) Determining the need to amend regulations protecting persons who work on, under, or between rolling equipment and persons applying, removing, or inspecting rear end marking devices (Blue Signal Protection).

Task 01-1—(Completed) Developing conformity of FRA's regulations for accident/incident reporting (49 CFR Part 225) to revised regulations of the Occupational Safety and Health Administration, U.S. Department of Labor, and to make appropriate revisions to the FRA Guide for Preparing Accident/Incident Reports (Reporting Guide).

Task 06-02—(Completed) Track Safety Standards and CWR. Issue requirements for inspection of joint bars in CWR to detect cracks that could affect the integrity of the track structure published a final rule on August 25, 2009, with correcting amendment published on October 21, 2009.

Task 07-01—(Completed) Track Safety Standards. Consider specific improvements to the Track Safety Standards or other responsive actions, supplementing work already underway on continuous welded rail (CWR) specifically to: Review controls applied to the reuse of rail in CWR “plug rail”; review the issue of cracks emanating from bond wire attachments; consider improvements in the Track Safety Standards related to fastening of rail to concrete ties; and ensure a common understanding within the regulated community concerning requirements for internal rail flaw inspections. The Concrete Crossties NPRM was published on August 26, 2010 (75 FR 52490), and the final rule was issued on April 1, 2011 (76 FR 18073), with an effective date of July 1, 2011. FRA received two petitions for reconsideration in response to the final rule, and as a result published a second final rule on June 15, 2011 (76 FR 34890), delaying the effective date of the final rule until October 1, 2011.

Task 08-01—(Completed) Report on the Nation's railroad bridges. Report to FRA on the current state of railroad bridge safety management; update the findings and conclusions of the 1993 Summary Report of the FRA Railroad Bridge Safety Survey.

Task No. 08-04—(Completed) Positive Train Control. Provide advice regarding development of implementing regulations for PTC systems and their deployment under the RSIA. The PTC consensus rule text was approved by majority RSAC vote by electronic ballot on September 24, 2009, and the final rule was published on January 15, 2010 (75 FR 2598). Final rule amendments were published on September 27, 2010 (75 FR 59108). An NPRM proposing amendments to the PTC Final Rule that would remove various regulatory requirements that require railroads to either conduct further analyses or meet certain risk-based criteria in order to avoid PTC system implementation on track segments that do not transport poison- or toxic-by-inhalation hazardous materials traffic, and are not used for intercity or commuter rail passenger transportation, as of December 31, 2015, was published on August 24, 2011 (76 FR 52918), with comments due by October 24, 2011.

Task No. 08-05—(Completed) Railroad Bridge Safety Assurance. Develop a rule encompassing the requirements of Section 417 of the RSIA (Railroad Bridge Safety Assurance), of RSIA bridge failure. Final rule published July 15, 2010 (75 FR-41282).

Task No. 08-06—(Completed) Hours of Service Recordkeeping and Reporting. Develop revised recordkeeping and reporting requirements for hours of service of railroad employees. Final rule published May 27, 2009, with an effective date of July 16, 2009. (74 FR 25330).

Task No. 09-01—(Completed) Passenger Hours of Service. Provide advice regarding development of implementing regulations for the hours of service of operating employees of commuter and intercity passenger railroads under the RSIA. The NPRM was published on March 22, 2011 (76 FR 16200), and the final rule was published on August 12, 2011 (76 FR 50360), with an effective date of October 15, 2011.

Please refer to the notice published in the Federal Register on March 11, 1996 (61 FR 9740), for more information about the RSAC.

Robert C. Lauby,
Acting Associate Administrator for Railroad Safety/Chief Safety Officer.

[FR Doc. 2012-9625 Filed 4-20-12; 8:45 am]

BILLING CODE 4910-06-P